DEPARTMENT OF COMMERCE

International Trade Administration

A-570-890

Wooden Bedroom Furniture from The People's Republic of China: Notice of Court Decision Not in Harmony

AGENCY: Import Administration, International Trade Administration, U.S. Department of Commerce.

SUMMARY: On April 5, 2006, the United States Court of International Trade (“Court”) sustained the final remand determination made by the Department of Commerce (“the Department”) pursuant to the Court's remand of the amended final determination of the investigation of wooden bedroom furniture from the People's Republic of China. See Guangzhou Maria Yee Furnishings Ltd., et. al. v. United States, Ct. No. 05-00065, Slip Op. 06-44 (Ct. Int'l Trade April 5, 2006) (“Maria Yee Remand II”). This case arises out of the Department's Final Determination of Sales at Less Than Fair Value: Wooden Bedroom Furniture From the People's Republic of China, 69 FR 67313 (November 17, 2004), as amended, 70 FR 329 (January 4, 2005) (“Final Determination”). The final judgment in this case was not in harmony with the Department's Final Determination.

EFFECTIVE DATE: April 17, 2006.

FOR FURTHER INFORMATION CONTACT: Will Dickerson, AD/CVD Operations, Office 8, Import Administration, International Trade Administration, U.S. Department of Commerce, 14th Street and Constitution Avenue, NW, Washington DC 20230; telephone (202) 482-1778.

SUPPLEMENTARY INFORMATION:

Background

In Guangzhou Maria Yee Furnishings, Ltd., et al. v. United States, Court No. 05-00065, Slip Op. 05-158 (CIT December 14, 2005) (“Maria Yee Remand”), the Court remanded the Department's determination to reject, as untimely, certain information submitted by Guangzhou Maria Yee Furnishings Ltd., et al. (“Maria Yee”). The Court found that the Department's method of notice to parties of the requirement and deadline to submit a response to Section A of the Department's questionnaire was not reasonable, and remanded this case to the Department for further consideration consistent with the Court's opinion, and in light of the Court's decision in Decca Hospitality Furnishings, LLC v. United States, Court No. 05-00002, Slip Op. 05-100 (CIT August 23, 2005) (“Decca”)

On February 10, 2006, the Department issued its draft results of redetermination pursuant to remand for comment by the interested parties. On February 14, 2006, Maria Yee submitted comments in response to the Department's draft results of redetermination. No other party filed comments. On March 1, 2006, the Department issued its final results of redetermination pursuant to remand to the Court. The remand redetermination explained that, in accordance with the Court's opinion, the Department must analyze the evidence presented by Maria Yee to determine whether it is eligible for a separate rate. Accordingly, on December 27, 2005, the Department reopened the record and requested that Maria Yee re-submit a copy of its initial July 2, 2004, submission. On December 28, 2005, Maria Yee re-submitted a copy of its initial July 2, 2004, submission. Additionally, the Department issued one supplemental questionnaire to Maria Yee to address a few deficiencies found in Maria Yee's December 28, 2005, submission. Maria Yee submitted timely and complete responses to these questionnaires. Based on our analysis of Maria Yee's evidence, we determined that Maria Yee qualifies for a separate rate in the investigation of wooden bedroom furniture from the PRC. See Final Results of Redetermination Pursuant to Court Remand, November 7, 2005.

On April 5, 2006, the Court ordered that the Department's remand determination is supported by substantial evidence, and affirmed the Department's remand results in their entirety. See Maria Yee Remand II. The granting of a separate rate to Maria Yee changes Maria Yee's antidumping duty rate from the PRC-wide rate of 198.08 percent to the Section A respondent rate of 6.65 percent.

Timken Notice

In its decision in Timken Co. v. United States, 893 F.2d 337, 341 (Fed. Cir. 1990) (“Timken”), the United States Court of Appeals for the Federal Circuit held that, pursuant to section 516A(e) of the Tariff Act of 1930, as amended (“the Act”), the Department must publish a notice of a court decision that is not “in harmony” with a Department determination, and must suspend liquidation of entries pending a “conclusive” court decision. The Court's decision in Maria Yee Remand II constitutes a final court decision that is not in harmony with the Department's final determination of sales at less than fair value. This notice is published in fulfillment of the publication requirements of Timken. Accordingly, the Department will continue the suspension of liquidation of the subject merchandise pending the expiration of the period of appeal, or, if appealed, upon a final and conclusive court decision.

This notice is issued and published in accordance with section 516A(c)(1) of the Act.

Dated: April 20, 2006.
Joseph A. Spetrini,
Acting Assistant Secretary for Import Administration.

[FR Doc. E6-6369 Filed 4-26-06; 8:45 am]

BILLING CODE 3510-DS-S